DEPARTMENT OF TRANSPORTATION

Federal Motor Carrier Safety Administration

Qualification of Drivers; Exemption Applications; Vision

AGENCY: Federal Motor Carrier Safety Administration (FMCSA), DOT.

ACTION: Notice of denials.

SUMMARY: FMCSA announces its denial of 106 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Dr. Mary D. Gunnels, Director Medical Programs, 202-366-4001, U.S. Department of Transportation, FMCSA, 1200 New Jersey Avenue, SE., Room W64-224, Washington, DC 20590-0001. Office hours are from 8:30 a.m. to 5 p.m. Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to, or greater than, the level that would be achieved absent such an exemption.” The procedures for requesting an exemption are set forth in 49 CFR part 381.

Accordingly, FMCSA evaluated 106 individual exemption requests on their merit and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

The following 4 applicants lacked sufficient driving experience during the 3-year period prior to the date of their applications:

Jerry Swedberg, James Marrone, Clinton H. Ezell, Wanda Rivera.

The following 17 applicants had no experience operating a CMV:

Howard Karrick, Alexander Tsvetkov, Jamie Donald Daniels, Robert S. Lewton, Michael A. Carson, Todd J. Stubb, James Garvin, James McGlown, Larry McKnight, Jr., Tommy Nguyen, Fatos Syla, Bryan Baker, Ivan Castillo Leon, Jared Matthew Bauer, Shaun Adam Cahoon, John David Beebee, Donald Cyrus Zwanzig.

The following 9 applicants did not have 3 years of experience driving a CMV on public highways with the vision deficiency:

Christopher Kahl, Althea Renita Dowell, Steven DuBois, Steve Campbell, Kenneth Trouth, Robert Hendricks, Sam Antinora, Juan Curiel, Keith Reed.

The following 12 applicants did not have 3 years of recent experience driving a CMV with the vision deficiency:

Gary Aliff, Pedro Pulido, Oliver Murphy, Jerome Smalls, Alan Jenkins, Ryan Forsythe, Terry L. Randoll, Edward Joseph Simanek III, Sven R. Aragon, Joe Alfred Root, Gary L. Smith, Arthur B. Wolf.

The following 7 applicants did not have sufficient driving experience during the past 3 years under normal highway operating conditions:

Robert Salazar, Evan Anderson, John Lunsford, Jerome Sheets, Robert Seals, James Lucas, Gregory T. Grierson.

The following 2 applicants do not have sufficient peripheral vision in the better eye to qualify for an exemption.

Thomas L. Newingham, Joseph Barlow.

The following 2 applicants do not have sufficient visual acuity in the better eye to qualify for an exemption.

Earl L. Wilson, Richard Stewart.

The following 2 applicants had a commercial driver's license suspension during the 3-year review period for moving violations. Applicants do not qualify for an exemption with a suspension during the 3-year period.

Royce Thomas, Randy Fielder.

The following 4 applicants were denied for miscellaneous/multiple reasons:

Ramon Green, Larry Hattery, Joey Heuser, Travis Tucker.

The following 2 applicants never submitted the required documents:

Floyd Butler, John Jacobson.

The following 13 applicants met the current federal vision standards. Exemptions are not required for applicants who meet the current regulations for vision:

David Everts, John Flanders, John Harmon, Jeffery Willemarck, Rick Smith, Luther Smith, Frank Piscitello, Jr., Cortez Burnett, Lee Rains, Yewnet Lakew, Marci Casteel, Ronald Boggs, Robert Shanks.

Finally, the following 32 applicants will not be driving interstate, interstate commerce, or not required to carry a DOT medical card:

Jose Becerra, Merle Burger, Kenneth Dean, Tyrane Harper, Robert Jones, Alfonzo Hawthorne, Nathaniel Guy Edwards, John C. Yoder, Fred Jeffrey, Albert Parker, James Plemmons, Roy Priest, Robert Shepherd, Thomas Guckert, Barry L. Ream, Roger Freeman, Timothy Curran, Jonathan Black Elk, Ward Howard, Alberto Mireles, Jr., Jeremy Pruemer, Larry Keith Abbott, Alan G. Paci, John Savage, Edward Lee Clark, Robert Haynes, Richard A. Whispell, Terry Dennis Helm, Randy Lee Stevens, Rodney D. Neujahr, Dennis R. Bergstrom, Thomas E. Elliott.

Issued on: April 22, 2011.
Larry W. Minor,
Associate Administrator for Policy.

[FR Doc. 2011-11019 Filed 5-4-11; 8:45 am]

BILLING CODE 4910-EX-P